DEPARTMENT OF COMMERCE

International Trade Administration

Notice of Scope Rulings

AGENCY: Enforcement and Compliance, International Trade Administration, Department of Commerce.

DATES: Applicable August 25, 2021.

SUMMARY: The Department of Commerce (Commerce) hereby publishes a list of scope rulings and anti-circumvention determinations made during the period April 1, 2021, through June 30, 2021. We intend to publish future lists after the close of the next calendar quarter.

FOR FURTHER INFORMATION CONTACT: Marcia E. Short, AD/CVD Operations, Customs Liaison Unit, Enforcement and Compliance, International Trade Administration, U.S. Department of Commerce, 1401 Constitution Avenue NW, Washington, DC 20230; telephone: 202-482-1560.

SUPPLEMENTARY INFORMATION:

Background

Commerce regulations provide that it will publish in the Federal Register a list of scope rulings on a quarterly basis.¹ Our most recent notification of scope rulings was published on May 28, 2021.² This current notice covers all scope rulings and anti-circumvention determinations made by Enforcement and Compliance between April 1, 2021, and June 30, 2021.

¹ See 19 CFR 351.225(o).

² See Notice of Scope Rulings, 86 FR 28751 (May 28, 2021).

Scope Rulings Made April 1, 2021 Through June 30, 2021

People's Republic of China (China)

A-570-112 and C-570-113: Certain Collated Steel Staples From China

Requestor: Zhejiang Best Nail Industrial Co., Ltd. Eleven models of insulated staples (JY01-01-JY11-01) are not covered by the scope of the antidumping or countervailing duty orders on certain collated steel staples from China because they are collated using plastic insulators which creates a distinct space between each staple in place of glue, adhesive, or paper tape; April 5, 2021.

A-570-979 and C-570-980: Certain Crystalline Silicon Photovoltaic Cells From China

Requestor: The Solaria Corporation (Solaria). Solaria's PowerXT photovoltaic cells and modules manufactured in the Republic of Korea (Korea) are included in the scope of the antidumping duty order on solar cells from China and the antidumping duty order on solar products from Taiwan because Solaria's solar cells are completed in China and Taiwan with a functioning p/n junction and imported into Korea for module assembly, a process that has already been determined to not substantially transform a cell to change its country of origin; April 8, 2021.

A-570-967 and C-570-968: Aluminum Extrusions From China

Requestor: Reflection Window + Wall, LLC. Four window wall kits are not covered by the scope of the antidumping and countervailing duty orders on aluminum extrusions from China because they meet the exclusion criteria for finished goods kits; April 26, 2021.

A-570-900: Diamond Sawblades and Parts Thereof From China

Requestor: Customs and Border Protection (CBP) (Enforcement and Protect Act (EAPA) referral). Diamond sawblades produced in Canada by Protech Diamond Tools, Inc. (Protech) with Chinese cores and Chinese segments, which are: (1) Exported by Protech and imported by Gogo International, Inc, (Gogo); or (2) exported by Gogo are covered merchandise subject to the antidumping duty order on diamond sawblades and parts thereof (diamond sawblades) from China; diamond sawblades produced in Canada by Protech with Chinese cores and non-Chinese segments, which are: (1) Exported by Protech and imported by Gogo; or (2) exported by Gogo are covered merchandise subject to the order; diamond sawblades produced in Canada by Protech with non-Chinese cores or Chinese segments, which are: (1) Exported by Protech and imported by Gogo; or (2) exported by Gogo are not covered merchandise and not subject to the order, provided that CBP determines that the certification and/or documentation requirements identified in message 1007402 dated 01/07/2021 are met; April 27, 2021.

A-570-090 and C-570-091: Certain Steel Wheels 12 to 16.5 Inches in Diameter From China

Requestor: The Wheel Source, Inc. (Wheel Source). Certain passenger vehicle wheels which Wheel Source imports are outside the scope of the antidumping and countervailing duty orders because they have: (1) Different bolt patterns; (2) positive offsets; (3) different pilot diameters; and (4) lower load ratings that make them unsuitable for use on trailers or towable equipment. Certain other passenger vehicle wheels which Wheel Source imports are outside the scope of the antidumping and countervailing duty orders primarily because: (1) The expectations of the ultimate purchasers; (2) the ultimate use of the product; and (3) the manner in which the product is advertised and displayed are distinct from subject merchandise; April 30, 2021.

A-570-090 and C-570-091: Certain Steel Wheels 12 to 16.5 Inches in Diameter From China

Requestor: U.S. Wheel Corp (U.S. Wheel). Certain passenger vehicle and light truck rims and discs imported by U.S. Wheel are outside the scope of the antidumping and countervailing duty orders because they have: (1) Larger offsets; (2) different hub bore sizes; (3) multiple bolt patterns; and/or (4) lower load ratings that make them unsuitable for use on trailers or towable equipment; May 3, 2021.

A-570-947 and C-570-948: Certain Steel Grating From China

Requestor: Weihai Gaosai Metal Product Ltd. The steel decking of the tribar truss floor in the farrowing flooring system is covered by the scope of the antidumping and countervailing duty orders on certain steel grating from China because it has physical characteristics consistent with subject merchandise. However, the other components of the farrowing flooring system and the pig farrowing crate are not covered by the order because those components are not steel grating; May 11, 2021.

A-570-947 and C-570-948: Steel Grating From China

Requestor: Ikadan Systems USA Inc. Ductile cast iron flooring is not covered by the scope of the antidumping and countervailing duty orders on steel grating from China. This is because the orders apply only to steel grating, not cast iron, and because the cast iron grating is made from a mold forming a solid, one-piece grate, while the orders apply only to grating formed by two or more pieces of steel that are connected through welding, riveting, or otherwise; May 13, 2021.

A-570-900: Diamond Sawblades and Parts Thereof From China

Requestor: CBP (EAPA referral) and Lyke Industrial Tool, LLC. Diamond Sawblades exported by Like Tools Co. Ltd. and imported by Lyke Industrial Tool, LLC are covered by the scope of the antidumping duty order on diamond sawblades and parts thereof from China because Commerce determined that they are not substantially transformed, and Like Tools Co. Ltd. was not able to demonstrate that the cores and segments were joined in Thailand; June 3, 2021.

A-570-112 and C-570-113: Certain Collated Steel Staples From China

Requestor: Stanley Black & Decker, Inc. The model DRS18100 collated insulated staple is not covered by the scope of the antidumping or countervailing duty order on certain collated steel staples from China because it is collated using plastic insulators which creates a distinct space between each staple in place of glue, adhesive or paper tape; June 8, 2021.

A-570-106 and C-570-107: Wooden Cabinets and Vanities and Components Thereof From China

Requestor: Homewerks Worldwide, LLC. Medicine cabinets with moveable shelves (model numbers: #HF01-MAT-WH and #HF01-MAT-ES) imported from China are outside the scope of the antidumping and countervailing duty orders; June 11, 2021.

A-570-979 and C-570-980: Crystalline Silicon Photovoltaic Cells From China

Requestor: ET Solar, Inc. (ET Solar). Commerce upheld the substantial transformation analysis used in its preliminary scope determination to conclude that certain solar modules imported by ET Solar from Vietnam containing unfinished solar wafers imported from China (i.e., silicon wafers with p/n junctions imparted in China) are within the scope of the antidumping and countervailing duty orders on solar cells from China. Commerce continued to find that further processing undertaken in Vietnam on unfinished solar cells from China was insufficient to transform them from Chinese-origin merchandise to Vietnamese-origin merchandise; June 15, 2021.

A-570-831: Fresh Garlic From China

Requestor: RJ Van Drunen & Sons Inc. Commerce analyzed factors provided in 19 CFR 351.225(d) and 351.225(k)(1) and determined that individually quick frozen one-eighth-inch diced garlic (diced garlic) is not covered by the scope of the antidumping duty order on fresh garlic from China because the description of the merchandise from the Petition, the investigation, and prior scope determinations are dispositive in determining that the diced garlic at issue is not within the scope of the Order. Therefore, Commerce did not analyze the additional factors provided in 19 CFR 351.225(k)(2); June 28, 2021.

Taiwan

A-583-853: Certain Crystalline Silicon Photovoltaic Products From Taiwan

Requestor: Solaria. Solaria's PowerXT photovoltaic cells and modules manufactured in Korea are included in the scope of the antidumping duty order on solar cells from China and the antidumping duty order on solar products from Taiwan because Solaria's solar cells are completed in China and Taiwan with a functioning p/n junction and imported into Korea for module assembly, a process that has already been determined to not substantially transform a cell to change its country of origin; April 8, 2021.

Anti-Circumvention Determinations Made April 1, 2021 Through June 30, 2021

China

A-570-026 and C-570-027: Certain Corrosion-Resistant Steel Products (CORE) From China

Self-initiated: CORE completed in Malaysia from hot-rolled steel or cold-rolled steel substrate manufactured in China, and subsequently exported to the United States is circumventing the antidumping and countervailing duty orders on CORE from China. CORE produced in South Africa is not circumventing the orders; June 1, 2021.

Taiwan

A-583-856: Certain Corrosion Resistant Steel Products (CORE) From Taiwan

Self-initiated: CORE completed in Malaysia from hot-rolled steel or cold-rolled steel substrate manufactured in Taiwan, and subsequently exported to the United States is circumventing the antidumping order on CORE from Taiwan; June 1, 2021.

Preliminary Determinations Made April 1, 2021, Through June 30, 2021

China

A-570-067 and C-570-068: Forged Steel Fittings From China

Requestor: Midwest Diversified Technologies, Inc. Fifteen self-drilling anchor bolt systems couplers are not covered by the scope of the antidumping duty and countervailing duty orders on forged steel fittings from China because they are not designed to connect pipes and cannot convey fluid at high pressure; May 17, 2021.

Notification to Interested Parties

Interested parties are invited to comment on the completeness of this list of scope inquiries and anti-circumvention determinations made during the period April 1, 2021, through June 30, 2021. Any comments should be submitted to James Maeder, Deputy Assistant Secretary for AD/CVD Operations, Enforcement and Compliance, International Trade Administration, via email to CommerceCLU@trade.gov.

This notice is published in accordance with 19 CFR 351.225(o).

Dated: August 20, 2021.
James Maeder,
Deputy Assistant Secretary for Antidumping and Countervailing Duty Operations.

[FR Doc. 2021-18291 Filed 8-24-21; 8:45 am]

BILLING CODE 3510-DS-P